DEPARTMENT OF LABOR

Occupational Safety and Health Administration

29 CFR Parts 1910, 1915, 1917, 1918, and 1926

[Docket No. OSH-2011-0184]

RIN 1218-AC65

Updating OSHA Standards Based on National Consensus Standards; Head Protection

AGENCY: Occupational Safety and Health Administration (OSHA), Labor.

ACTION: Proposed rule; withdrawal.

SUMMARY: With this notice, OSHA is withdrawing the proposed rule that accompanied its direct-final rule revising its Head Protection standards for general industry, shipyard employment, marine terminals, longshoring, and construction.

DATES: Effective November 16, 2012, the proposed rule published June 22, 2012 (77 FR 37617), is withdrawn.

FOR FURTHER INFORMATION CONTACT:

General information and press inquiries: Frank Meilinger, Director, OSHA Office of Communications, Room N-3647, U.S. Department of Labor, 200 Constitution Avenue NW., Washington, DC 20210; telephone: (202) 693-1999.

Technical information: Ken Stevanus, Directorate of Standards and Guidance, Room N-3609, OSHA, U.S. Department of Labor, 200 Constitution Avenue NW., Washington, DC 20210; telephone: (202) 693-2260; fax: (202) 693-1663.

SUPPLEMENTARY INFORMATION:

Copies of this Federal Register notice: Electronic copies of this Federal Register notice are available at http://www.regulations.gov. This Federal Register notice, as well as news releases and other relevant information, is also available at OSHA's Web page at http://www.osha.gov.

Withdrawal of the proposal: On June 22, 2012, OSHA published a direct-final rule to update the incorporated references in its Head Protection standards for general industry at 29 CFR 1910.135, shipyard employment at 29 CFR 1915.155, marine terminals at 29 CFR 1917.93, longshoring at 29 CFR 1918.103, and construction at 29 CFR 1926.100 (77 FR 37587). OSHA also published a companion proposed rule along with the direct-final rule (77 FR 37617). In the direct-final rule, OSHA stated that it would withdraw the companion proposed rule and confirm the effective date of the direct-final rule if it received no significant adverse comments on the direct-final rule by July 23, 2012. OSHA received two comments on the direct-final rule by that date, neither of which were significant adverse comments (see Document IDs OSHA-2011-0184-0003 and -0004). To the contrary, both comments supported the direct final rule.

OSHA is publishing a notice announcing this determination and confirming the effective date of the direct-final rule as September 20, 2012. Accordingly, OSHA is not proceeding with the proposed rule, and is withdrawing it from the rulemaking process.

List of Subjects in 29 CFR Parts 1910, 1915, 1917, 1918, and 1926

Head protection, Occupational safety and health, Safety.

Authority and Signature

David Michaels, Ph.D., MPH, Assistant Secretary of Labor for Occupational Safety and Health, U.S. Department of Labor, 200 Constitution Avenue NW., Washington, DC 20210, authorized the preparation of this document. OSHA is issuing this document pursuant to 29 U.S.C. 653, 655, and 657, 5 U.S.C. 553, Secretary of Labor's Order 1-2012 (77 FR 3912), and 29 CFR part 1911.

Signed at Washington, DC on November 8, 2012.
David Michaels,
Assistant Secretary of Labor for Occupational Safety and Health.

[FR Doc. 2012-27791 Filed 11-15-12; 8:45 am]

BILLING CODE 4510-26-P